DEPARTMENT OF AGRICULTURE

Food Safety and Inspection Service

[Docket No. FSIS-2025-0010]

Delayed Verification Sampling of Not Ready-to-Eat Breaded Stuffed Chicken Products

AGENCY: Food Safety and Inspection Service (FSIS), U.S. Department of Agriculture (USDA).

ACTION: Notice.

SUMMARY: FSIS is announcing that it is delaying the date it will begin sampling not ready-to-eat (NRTE) breaded stuffed chicken products for Salmonella and delaying the date establishments need to reassess their Hazard Analysis and Critical Control Point (HACCP) plans for these products from May 1, 2025, to November 3, 2025. This additional time is necessary for FSIS to finalize its instructions to inspectors and prepare its inspection program personnel (IPP) and laboratories for the new sampling and testing. In addition, this additional time is necessary for FSIS to provide industry with guidance on holding and controlling products pending FSIS' sampling results.

DATES: FSIS will begin sampling NRTE breaded stuffed chicken on November 3, 2025. Establishments will have until November 3, 2025, to reassess their HACCP plans for this product.

FOR FURTHER INFORMATION CONTACT: Rachel Edelstein, Assistant Administrator, Office of Policy and Program Development by telephone at (202) 205-0495.

SUPPLEMENTARY INFORMATION: FSIS is the public health agency within the USDA responsible for ensuring that meat, poultry, and egg products are safe, wholesome, and properly labeled. In support of this mission, FSIS published a final determination in the Federal Register on May 1, 2024, declaring that NRTE breaded stuffed chicken products containing Salmonella at levels of 1 colony forming unit (CFU) per gram or higher are adulterated under the Poultry Products Inspection Act (PPIA) (21 U.S.C. 453(g)(1) and (3)) (89 FR 35033). The final determination also announced FSIS' intention to implement verification procedures, including sampling and testing of raw incoming chicken components used to produce NRTE breaded stuffed chicken products (88 FR 35033, 35050-35051). Additionally, the final determination required all NRTE breaded stuffed chicken establishments to reassess their HACCP plans for this product (89 FR 35033, 35050).

FSIS is now announcing a delay in the start date for its sampling program for NRTE breaded stuffed chicken products. Initially set to begin on May 1, 2025, the sampling program will now start on November 3, 2025.

FSIS is announcing this delay in finalizing its sampling program and attendant guidance because it was unable to complete this process due to competing priorities at the end of the last administration. This delay will provide additional time for FSIS and industry to prepare for implementation of the sampling program. As noted in FSIS Notice 15-24, Salmonella as an Adulterant in Not Ready-To-Eat Breaded Stuffed Chicken Products, May 1, 2024, the Agency intends to issue updated sampling instructions and training for IPP prior to implementing its sampling program. FSIS laboratories also will need to update their methods for this new testing. Before FSIS begins verification sampling, the Agency will announce in its newsletter, the Constituent Update, information about the methods it will use for qualitative and quantitative analyses for Salmonella in NRTE breaded stuffed chicken. While industry is not required to do their own sampling of NRTE breaded stuffed chicken for Salmonella, some establishments may voluntarily choose to use FSIS' methods. Therefore, this additional time will allow industry to prepare for or develop their own testing if they wish to do so. Moreover, FSIS laboratories need additional time to prepare for the increased workload. Proper IPP and lab readiness is essential to maintain the accuracy, reliability, and timeliness of test results, which are critical for ensuring food safety and protecting public health.

The delay will also allow FSIS to help establishments comply with the final determination by providing new recommendations on lotting and holding product (88 FR 35033, 35051). FSIS may issue a guidance document or hold webinars to provide guidance. This additional time will allow industry to ask questions and provide feedback on the Agency guidance.

Finally, this delay will provide time for new leadership appointed after January 20, 2025, to review and provide policy input on the Agency's sampling program and guidance documents for this product.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service that provides automatic and customized access to selected food safety news and information. This service is available at: https://www.fsis.usda.gov/subscribe. The available information ranges from recalls to export information, regulations, directives, and notices. Customers can add or delete subscriptions themselves and have the option to password protect their accounts.

USDA Non-Discrimination Statement

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at “How to File a Program Discrimination Complaint” and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Washington, DC 20250-9410; (2) fax: (202) 690-7442; or (3) email: program.intake@usda.gov.

USDA is an equal opportunity provider, employer, and lender.

Denise Eblen,
Administrator.

[FR Doc. 2025-06164 Filed 4-10-25; 8:45 am]

BILLING CODE 3410-DM-P